DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of two entities whose property and interests in property have been blocked pursuant to the Foreign Narcotics Kingpin Designation Act (“Kingpin Act”) (21 U.S.C. 1901-1908, 8 U.S.C. 1182). In addition, OFAC is publishing additions to the identifying information for two individuals previously designated pursuant to the Kingpin Act.

DATES: The designation by the Director of OFAC of the two entities identified in this notice pursuant to section 805(b) of the Kingpin Act is effective on October 10, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 10, 2012, the Director of OFAC designated the following two entities whose property and interests in property are blocked pursuant to section 805(b) of the Kingpin Act:

1. SOCIALIKA RENTAS Y CATERING, S.A. DE C.V. (a.k.a. TERRAZA 9140), Blvd. Lopez Mateos No. 9140, Col. El Palomar, Zapopan, Jalisco C.P. 45238, Mexico; Cancun, Quintana Roo, Mexico; R.F.C. SRC-080222-274 (Mexico) [SDNTK].

2. URBANIZADORA NUEVA ITALIA, S.A. DE C.V., Calle Morelos No. 2223, Colonia Arcos Vallarta, Guadalajara, Jalisco C.P. 44130, Mexico; R.F.C. UNI-031118-2I6 (Mexico) [SDNTK].

In addition, OFAC is publishing additions to the identifying information for the following two individuals previously designated pursuant to the Kingpin Act:

1. ESPARRAGOZA GASTELUM, Brenda Guadalupe, Calle Calkini Manzana 11 Lote 1, Colonia Residencia Sol del Mayab, Benito Juarez, Quintana Roo C.P. 77533, Mexico; Calle Morelos No. 2223, Colonia Arcos Vallarta, Guadalajara, Jalisco C.P. 44130, Mexico; Circuito Fuentes de Pedregal No. 478 Interior 1103, Colonia Fuentes de Pedregal, Delegacion Tlalpan, Mexico City, Distrito Federal C.P. 14140, Mexico; Avenida de la Patria No. 685 Interior 1, Fraccionamiento Jardines Universidad, Zapopan, Jalisco, Mexico; DOB 27 Mar 1978; POB Guadalajara, Jalisco, Mexico; R.F.C. EAGB780327UB5 (Mexico); C.U.R.P. EAGB780327MJCSSR11 (Mexico) (individual) [SDNTK] Linked To: GRUPO IMPERGOZA, S.A. DE C.V.

2. GONZALEZ PARADA, Juvencio Ignacio; DOB 09 Jan 1947; POB Tepeaca, Puebla, Mexico; C.U.R.P. GOPJ470109HPLNRV00 (Mexico) (individual) [SDNTK] Linked To: GRUPO CINJAB, S.A. DE C.V.; Linked To: GRUPO IMPERGOZA, S.A. DE C.V.

The listings for these two individuals now appear as follows:

1. ESPARRAGOZA GASTELUM, Brenda Guadalupe, Calle Calkini Manzana 11 Lote 1, Colonia Residencia Sol del Mayab, Benito Juarez, Quintana Roo C.P. 77533, Mexico; Calle Morelos No. 2223, Colonia Arcos Vallarta, Guadalajara, Jalisco C.P. 44130, Mexico; Circuito Fuentes de Pedregal No. 478 Interior 1103, Colonia Fuentes de Pedregal, Delegacion Tlalpan, Mexico City, Distrito Federal C.P. 14140, Mexico; Avenida de la Patria No. 685 Interior 1, Fraccionamiento Jardines Universidad, Zapopan, Jalisco, Mexico; DOB 27 Mar 1978; POB Guadalajara, Jalisco, Mexico; R.F.C. EAGB780327UB5 (Mexico); C.U.R.P. EAGB780327MJCSSR11 (Mexico) (individual) [SDNTK] Linked To: GRUPO IMPERGOZA, S.A. DE C.V.; Linked To: SOCIALIKA RENTAS Y CATERING, S.A. DE C.V.

2. GONZALEZ PARADA, Juvencio Ignacio; DOB 09 Jan 1947; POB Tepeaca, Puebla, Mexico; C.U.R.P. GOPJ470109HPLNRV00 (Mexico) (individual) [SDNTK] Linked To: GRUPO CINJAB, S.A. DE C.V.; Linked To: GRUPO IMPERGOZA, S.A. DE C.V.; Linked To: URBANIZADORA NUEVA ITALIA, S.A. DE C.V.

Dated: October 10, 2012.
Adam J. Szubin,
Director, Office of Foreign Assets Control.

[FR Doc. 2012-25304 Filed 10-15-12; 8:45 am]

BILLING CODE 4810-AL-P